FEDERAL ELECTION COMMISSION

[Notice 2007-12]

Filing Dates for the Massachusetts Special Election in the 5th Congressional District

AGENCY: Federal Election Commission.

ACTION: Notice of filing dates for special election.

SUMMARY: Massachusetts has scheduled elections on September 4, 2007, and October 16, 2007, to fill the U.S. House of Representatives seat in the Fifth Congressional District vacated by Representative Martin T. Meehan.

Committees required to file reports in connection with the Special Primary Election on September 4, 2007, shall file a 12-day Pre-Primary Report. Committees required to file reports in connection with both the Special Primary and Special General Election on October 16, 2007, shall file a 12-day Pre-Primary Report, a 12-day Pre-General Report, and a 30-day Post-General Report.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Massachusetts Special Primary and Special General Elections shall file a 12-day Pre-Primary Report on August 23, 2007; a 12-day Pre-General Report on October 4, 2007; and a 30-day Post-General Report on November 15, 2007. (See chart below for the closing date for each report).

All principal campaign committees of candidates participating only in the Special Primary Election shall file a 12-day Pre-Primary Report on August 23, 2007. (See chart below for the closing date for each report).

Unauthorized Committees (PACs and Party Committees)

Political committees filing on a semiannual basis in 2007 are subject to special election reporting if they make previously undisclosed contributions or expenditures in connection with the Massachusetts Special Primary or Special General Elections by the close of books for the applicable report(s). (See chart below for the closing date for each report).

Committees filing monthly that support candidates in the Massachusetts Special Primary or Special General Election should continue to file according to the monthly reporting schedule.

Disclosure of Electioneering Communications (Individuals and Other Unregistered Organizations)

Federal Election Commission electioneering communications rules govern television and radio communications that refer to a clearly identified federal candidate and are distributed within 30 days prior to a special primary election or 60 days prior to a special general election. 11 CFR 100.29. See also 2 U.S.C. 434(f). The statute and regulations require, among other things, that individuals and other groups not registered with the FEC who make electioneering communications costing more than $10,000 in the aggregate in a calendar year disclose that activity to the Commission within 24 hours of the distribution of the communication. See 2 U.S.C. 434(f)(1) and 11 CFR 104.20.

The 30-day electioneering communications period in connection with the Massachusetts Special Primary runs from August 5, 2007, through September 4, 2007. The 60-day electioneering communications period in connection with the Massachusetts Special General runs from August 17, 2007, through October 16, 2007.

Calendar of Reporting Dates for Massachusetts Special Election
Report | Close of books ¹ | Reg./cert. & overnight mailing deadline | Filing deadline
Quarterly Filing Committees Involved in Only the Special Primary (09/04/07), Must File
Pre-Primary | 08/15/07 | 08/20/07 | 08/23/07
October Quarterly | 09/30/07 | 10/15/07 | 10/15/07
Semiannual Filing Committees Involved in Only the Special Primary (09/04/07), Must File
Pre-Primary | 08/15/07 | 08/20/07 | 08/23/07
Year-End | 12/31/07 | 01/31/08 | 01/31/08
Quarterly Filing Committees Involved in Both the Special Primary (09/04/07) and Special General (10/16/07) Must File
Pre-Primary | 08/15/07 | 08/20/07 | 08/23/07
Pre-General | 09/26/07 | 10/01/07 | 10/04/07
October Quarterly | 09/30/07 | 10/15/07 | 10/15/07
Post-General | 11/05/07 | 11/15/07 | 11/15/07
Year-End | 12/31/07 | 01/31/08 | 01/31/08
Semiannual Filing Committees Involved In Both The Special Primary (09/04/07) And Special General (10/16/07) Must File
Pre-Primary | 08/15/07 | 08/20/07 | 08/23/07
Pre-General | 09/26/07 | 10/01/07 | 10/04/07
Post-General | 11/05/07 | 11/15/07 | 11/15/07
Year-End | 12/31/07 | 01/31/08 | 01/31/08
Quarterly Filing Committees Involved in Only the Special General (10/16/07), Must File
Pre-General | 09/26/07 | 10/01/07 | 10/04/07
October Quarterly | 09/30/07 | 10/15/07 | 10/15/07
Post-General | 11/05/07 | 11/15/07 | 11/15/07
Year-End | 12/31/07 | 01/31/08 | 01/31/08
Semiannual Filing Committees Involved in Only the Special General (10/16/07), Must File
Pre-General | 09/26/07 | 10/01/07 | 10/04/07
Post-General | 11/05/07 | 11/15/07 | 11/15/07
Year-End | 12/31/07 | 01/31/08 | 01/31/08
¹ The period begins with the close of books of the last report filed by the committee. If the committee has filed no previous reports, the period begins with the date of the committee's first activity.

Dated: May 24, 2007.
Robert D. Lenhard,
Chairman, Federal Election Commission.

[FR Doc. E7-10322 Filed 5-29-07; 8:45 am]

BILLING CODE 6715-01-P